DEPARTMENT OF JUSTICE

Drug Enforcement Administration

[Docket No. DEA-642]

Importer of Controlled Substances Application: MMJ Biopharma Cultivation, Inc.

ACTION: Notice of application.

DATES: Registered bulk manufacturers of the affected basic class(es), and applicants therefore, may file written comments on or objections to the issuance of the proposed registration on or before November 9, 2020. Such persons may also file a written request for a hearing on the application on or before November 9, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on February 13, 2020, MMJ Biopharma Cultivation, Inc., 71 Margaret Terrance Memorial Way, Akwesasne, New York, 13655, applied to be registered as an importer of the following basic class(es) of controlled substances:

Controlled substance | Drug code | Schedule
Marihuana Extract | 7350 | I
Marihuana | 7360 | I
Tetrahydrocannabinols | 7370 | I

The company plans to import the listed controlled substances as mature plants to support the manufacturing of dosage forms for use in clinical trials. This notice does not constitute an evaluation or determination of the merits of the company's application.

William T. McDermott,
Assistant Administrator.

[FR Doc. 2020-22070 Filed 10-7-20; 8:45 am]

BILLING CODE 4410-09-P